SECURITIES AND EXCHANGE COMMISSION

Sunshine Act Meeting

Federal Register Citation of Previous Announcement: 75 FR 34183, June 16, 2010.

STATUS: Open Meeting.

PLACE: 100 F Street, NE., Washington, DC.

DATE AND TIME OF PREVIOUSLY ANNOUNCED MEETING: Friday, June 18, 2010 at 10 a.m.

CHANGE IN THE MEETING: Cancellation of Meeting.

The Open Meeting scheduled for Friday, June 18, 2010 at 10 a.m. has been cancelled.

For further information please contact the Office of the Secretary at (202) 551-5400.

Dated: June 16, 2010.
Florence E. Harmon,
Deputy Secretary.

[FR Doc. 2010-15011 Filed 6-17-10; 11:15 am]

BILLING CODE P